ENVIRONMENTAL PROTECTION AGENCY

40 CFR Part 420

[FRL 6897-8]

RIN 2040-AB79

Effluent Limitations Guidelines, Pretreatment Standards, and New Source Performance Standards for the Iron and Steel Manufacturing Point Source Category

AGENCY: Environmental Protection Agency (EPA).

ACTION: Extension of comment period; correction.

SUMMARY: On December 27, 2000 (65 FR 81964), EPA published proposed effluent limitations guidelines, pretreatment standards, and new source performance standards under the Clean Water Act (CWA) for wastewater discharges from iron and steel manufacturing facilities. The proposed regulation would revise technology-based effluent limitations guidelines and standards for wastewater discharges associated with the operation of new and existing iron and steel facilities.

This action presents clarifying discussion on seven regulatory issues related to the proposed effluent limitations guidelines and standards for the iron and steel industry and solicits public comment. This action also contains corrections to certain portions of the proposed regulation and accompanying preamble to eliminate inconsistencies in the proposal, and to correct potentially confusing typographical errors.

This action also provides additional information on the pretreatment hearing and public meeting.

This action also announces that EPA is extending the comment period on the proposed rule until March 26, 2001. EPA is providing this extension in response to numerous requests for additional time to allow the public to consolidate their comments on the proposal.

DATES: EPA must receive comments on this action by midnight March 26, 2001. This is also the new deadline for submitting comments on the proposed rule, which was published on December 27, 2000 (65 FR 81964). On February 20, 2001, EPA will conduct a hearing on the pretreatment standards (9:00 AM-10:30 AM), followed by a public meeting on the entire proposed rule, including issues in today's action (10:30 AM-12:00 PM and 1:00 PM-2:30 PM).

ADDRESSES: The public meeting and hearing will be held at the EPA auditorium in Waterside Mall, 401 M Street SW., Washington, DC.

Submit written comments to Mr. George M. Jett at the following address: Office of Water, Engineering and Analysis Division (4303), U.S. EPA, 1200 Pennsylvania Avenue, NW., Washington, DC 20460. Comments submitted via hand-delivery or Federal Express may be sent to the following address: Room 607a West Tower, 401 M Street SW., Washington, DC 20460. For additional information on how to submit comments, see “HOW TO SUBMIT COMMENTS” in the SUPPLEMENTARY INFORMATION section of this action.

The public record for this action and the proposed rulemaking has been established under docket number W-00-25 and is located in the Water Docket East Tower Basement, Room EB57, 401 M Street SW., Washington, DC 20460. The record is available for inspection from 9:00 a.m. to 4:00 p.m., Monday through Friday, excluding legal holidays. For access to the docket materials, call (202) 260-3027 to schedule an appointment. You may have to pay a reasonable fee for copying.

FOR FURTHER INFORMATION CONTACT: For technical information concerning this action and the proposed rule, contact Mr. George M. Jett at (202) 260-7151 or Mr. Kevin Tingley at (202) 260-9843. For economic information, contact Mr. William Anderson at (202) 260-5131.

SUPPLEMENTARY INFORMATION:

How to Submit Comments

EPA encourages comments on today's action to be combined with comments on the notice published on December 27, 2000. EPA requests an original and three copies of your comments and enclosures (including references). Commenters who want EPA to acknowledge receipt of their comments should enclose a self-addressed, stamped envelope. No facsimiles (faxes) will be accepted. Please submit any references cited in your comments.

Comments may also be sent via e-mail to jett.george@epa.gov. Electronic comments must specify docket number W-00-25 and must be submitted as an ASCII, Word, or WordPerfect file avoiding the use of special characters and any form of encryption. Electronic comments on this action may be filed online at many Federal Depository Libraries. No confidential business information (CBI) should be sent via e-mail.

Contents of This Document

I. Purpose of this Action

II. Solicitation of Public Comment on New Regulatory Issues

III. Corrections to Proposed Preamble and Regulation

I. Purpose of This Action

In this action, EPA presents seven regulatory issues related to the proposed effluent limitations guidelines and standards for the Iron and Steel Manufacturing Point Source Category. This action also contains corrections to certain portions of the proposed regulation and accompanying preamble. This action also announces March 26, 2001 as the new deadline for submitting comments on the proposed rule. EPA solicits public comment on all information presented in this action and in the administrative record supporting this action.

II. Solicitation of Public Comment on New Regulatory Issues

EPA has identified seven substantive issues related to the proposed rulemaking to bring to the public's attention. These issues are discussed below. EPA solicits comment on these issues and the various approaches the Agency is considering to resolve these issues.

A. BPT Revision for Semi-wet BOF Operations

In the effluent limitations guidelines and standards promulgated for the Iron and Steel Manufacturing Point Source Category in 1982, BPT and BAT for basic oxygen furnaces with semi-wet air pollution controls (semi-wet BOFs) were set at no discharge of process wastewater pollutants to waters of the United States. In the December 27, 2000 notice, we proposed to revise BAT for semi-wet BOFs in the steelmaking subcategory. We had intended to revise BPT at the same time so that BAT and BPT would be consistent. However, we failed to do that. Instead, we republished the 1982 BPT of no discharge of process wastewater pollutants for semi-wet BOFs, with the result that the BPT would be more stringent than the proposed BAT. EPA did not intend this anomalous result. Today's action advises the public that we intend to revise BPT to be consistent with BAT in the final action.

Conforming BPT to BAT, as EPA intended, would allow for the discharge of process wastewater from semi-wet BOFs, which EPA considers desirable, because certain safety concerns preclude some sites currently from balancing the water applied for BOF gas conditioning with evaporative losses to achieve zero discharge. Specifically, some sites operate their semi-wet systems with excess water, which they use to flush the air pollution control ductwork in order to prevent the buildup of debris within the ductwork. If wet debris accumulates within the ductwork, it has the potential to fall back into the BOF, and may cause explosions and process upsets. The sites thus discharge the process wastewater used for flushing. EPA does not want to discourage this flushing practice because of its safety implications. Consequently, EPA intends to revise BPT for semi-wet BOF operations to conform to the proposed BAT so as to allow for the discharge of process wastewater under BPT for the reasons set forth above. The pollutants regulated under a revised BPT for semi-wet BOF operations would be TSS and pH. EPA is not proposing to regulate oil and grease in wastewater discharges from semi-wet BOF operations because there is virtually no oil and grease is in the wastestream. (EPA notes that oil and grease was not regulated in the 1982 regulation for this segment.)

If EPA were to revise BPT limitations for semi-wet BOF operations, EPA would base the new limitations for TSS on pollutant concentrations established in the 1982 rulemaking for both wet-open combustion and wet-suppressed combustion BOFs (150 mg/L maximum daily and 50 mg/L maximum monthly average concentrations for TSS) and the production-normalized flow (PNF) (10 gpt) developed in the proposed rule for semi-wet BOFs. It is reasonable to transfer limitations from these segments to the semi-wet BOF segment because of similarity in wastewater characteristics and in the proposed treatment technology. Using these data, EPA has calculated the BPT limitations shown in Table II.A.1 for semi-wet BOFs, which EPA would promulgate under this approach:

Table II.A.1.—Effluent Limitations (BPT) for Semi-Wet BOFs
Process wastewater source | Maximum daily ¹ | Maximum monthly average ¹
(a) Basic oxygen furnaces (1) semi-wet air pollution controls TSS | 0.0125 | 0.00417
¹ Pounds per ton of product.

The pH level would be maintained between 6.0 and 9.0 su at all times.

EPA solicits comment on this issue, including the limitations specified above.

B. PSES Limits for Electroplaters

The proposed regulation at section 420.66(g) (65 FR 82076) would establish concentration-based PSES for electroplating operations in the Steel Finishing Subcategory. These concentration-based limits were carried forward from the current regulations for the Metal Finishing Category. See 40 CFR 433.15 (2000 ed.). All other limitations and standards set forth in the proposed iron and steel rule are mass-based. EPA is considering converting the proposed concentration-based limits for electroplating (see Table II.B.1) to mass-based limits using the PNFs proposed for electroplating operations (see Table II.B.2). Table II.B.3 then presents the mass-based PSES limits for electroplating operations, for which it solicits comments today.

Table II.B.1.—Concentration-Based Pretreatment Standards for Electroplating Operations Set Forth in Proposed Rule
Pollutant | Maximum daily ¹ | Maximum monthly average ¹
Chromium | 2.77 | 1.71
Lead | 0.69 | 0.43
Nickel | 3.98 | 2.38
Zinc | 2.61 | 1.48
¹ Milligrams per liter.

Table II.B.2.—Production-Normalized Flows for Electroplating Operations
Electroplating operation type | PNF (gal/ton)
Strip, sheet: tin, chromium | 1100
Strip, sheet: zinc, other metals | 550
Plate | 35

Table II.B.3.—Mass-Based Pre-treatment Standards Considered for Electroplating Operations
Pollutant | Maximum daily ¹ | Maximum monthly average ¹
(1) Strip, sheet: tin, chromium:
Chromium | 0.0254 | 0.0157
Lead | 0.0063 | 0.0039
Nickel | 0.0365 | 0.0218
Zinc | 0.0240 | 0.0136
(2) Strip, sheet: zinc, other metals:
Chromium | 0.0127 | 0.0078
Lead | 0.0032 | 0.0020
Nickel | 0.0183 | 0.0109
Zinc | 0.0120 | 0.0068
(3) Plate:
Chromium | 0.00081 | 0.00050
Lead | 0.00020 | 0.00013
Nickel | 0.00116 | 0.00070
Zinc | 0.00076 | 0.00043
¹ Pounds per ton of product.

EPA does not believe this action will result in increased costs to the industry. EPA solicits comment on whether to establish mass-based PSES limits for electroplating operations in the Steel Finishing Subcategory. EPA also solicits comment on the specific mass-based pretreatment standards set forth in Table II.B.3 and the approach employed to develop those pretreatment standards.

C. Limitations and Standards for Ammonia-N in Steel Finishing Subcategory

The proposed regulation would regulate ammonia (as N) at BAT (section 420.64(a)), NSPS (section 420.65(b)(3)), and PSNS (section 420.67(b)(1)) levels in the stainless steel segment of the Steel Finishing Subcategory. EPA intended for the limits to apply only to nitric acid picklers using urea to control NOX emissions, because ammonia (as N) is present in wastewater from stainless steel finishing operations at significant levels only when nitric acid is used in pickling baths and urea is used to control NOX emissions. However, EPA did not make this distinction in the proposal. EPA intends to correct this error with today's notice. Consistent with EPA's original intent, EPA would specify in the final action that the BAT, NSPS, and PSNS limits as presented would apply only to stainless steel finishing operations with nitric acid pickling baths in which urea is used to control NOX emissions, and solicits comment.

The Agency also solicits comment on not establishing nationwide limits for ammonia (as N) for any operations in the stainless steel segment of the Steel Finishing subcategory. EPA notes that there are no limits for ammonia (as N) under the current Part 420 regulations for this segment. We would allow permit writers and pretreatment control authorities to use best professional judgment (BPJ) to make case-by-case determinations of the need to regulate ammonia (as N) in wastewater discharges from nitric acid pickling operations. EPA is also considering providing guidance for best management practices to reduce discharges of ammonia (as N).

D. Chromium (VI) Data

The proposed regulation would establish BAT (section 420.64(b)), NSPS (section 420.65(b)(4)), and PSNS (section 420.67(b)(2)) to regulate chromium (VI) in wastewaters from both segments of the Steel Finishing Subcategory. EPA proposed different limits for the carbon and alloy steel segment and the stainless steel segment of the subcategory. The following discussion pertains only to the stainless steel segment of the Steel Finishing Subcategory. Also, it does not apply to PSES standards, because EPA did not propose modification of the existing PSES standards for the Steel Finishing Subcategory.

The proposed limitations and standards for the stainless steel segment are based upon two sets of chromium (VI) data, which are described in Section 12.2.6.2 of the Technical Development Document (EPA-821-B-00-011). EPA acquired the two sets of data through self-monitoring performed by two different facilities. Prior to proposal, EPA lacked information from one facility regarding the chemical analytical method employed by that facility in analyzing the chromium (VI) data provided to EPA. Since proposal, EPA has received additional information about the chemical analytical methods for one set of these data and has verified that these data were determined by a method specified in or approved under 40 CFR Part 136, thus fulfilling one of EPA's criteria for data selection. Since proposal, EPA also has determined that the second set of data does not demonstrate effective performance of the model treatment technology. EPA believes that chromium (VI) reduction, if practiced properly, can consistently achieve effluent concentrations at or close to the minimum level of 0.01 mg/L. This is supported by sampling data from two Metal Products and Machinery (MP&M) facilities and three iron and steel finishing facilities operating chromium (VI) reduction pretreatment systems. Consequently, EPA has removed the second data set from analysis.

As a result of this change in the database, EPA recalculated the proposed limitations for BAT, NSPS, and PSNS for chromium (VI) in wastewater from the stainless steel segment of the Steel Finishing Subcategory. The limitations and standards that EPA is now considering are set forth in tables II.D.1, II.D.2 and II.D.3. The Agency believes that the data set used to establish theses limitations represents the best performing treatment system. We did not recalculate standards for PSES because EPA did not in the December, 2000 notice propose to revise the standards for existing indirect dischargers, but instead transferred them unchanged from the 1982 regulation, which did not set standards for chromium (VI). EPA is soliciting comment on this approach and on the recalculated limitations and standards.

For BAT, Table II.D.1 presents the effluent limitations that would apply to discharges in the stainless steel segment for the Steel Finishing Subcategory for each operation as applicable.

Table II.D.1.—Effluent Limitations (BAT) for Chromium (VI)
| Maximum daily ¹ | Maximum monthly average ¹
(i) Acid pickling and other descaling:
(A) bar, billet | 0.0000922 | 0.0000680
(B) pipe, tube | 0.000309 | 0.000228
(C) plate | 0.0000140 | 0.0000103
(D) strip, sheet | 0.000281 | 0.000207
(ii) Acid regeneration:
(A) fume scrubbers | 0.0577 ² | 0.0426
(iii) Alkaline cleaning:
(A) pipe, tube | 0.00000802 | 0.00000591
(B) strip, sheet | 0.00100 | 0.000739
(iv) Cold forming:
(A) direct application-single stand | 0.0000140 | 0.0000103
(B) direct application-multiple stands | 0.000110 | 0.0000813
(C) recirculation-single stand | 0.00000120 | 0.000000887
(D) recirculation-multiple stands | 0.00000641 | 0.00000473
(E) combination-multiple stand | 0.0000573 | 0.0000423
(v) Continuous annealing | 0.00000802 | 0.00000591
(vi) Wet air pollution control devices:
(A) fume scrubbers | 0.00866 ² | 0.006382
¹ Pounds per ton of product for all operations except fume scrubbers.
² The values are expressed in pounds per day for this operation.

For NSPS, Table II.D.2 presents the effluent limitations for chromium (VI) that would apply to discharges in the stainless steel segment for the Steel Finishing Subcategory for each operation as applicable.

Table II.D.2.—Effluent Limitations (NSPS) for Chromium (VI)
| Maximum daily ¹ | Maximum monthly average ¹
(i) Acid pickling and other descaling:
(A) bar, billet | 0.0000922 | 0.0000680
(B) pipe, tube | 0.000309 | 0.000228
(C) plate | 0.0000140 | 0.0000103
(D) strip, sheet | 0.000281 | 0.000207
(ii) Acid regeneration:
(A) fume scrubbers | 0.0577 ² | 0.0426
(iii) Alkaline cleaning:
(A) pipe, tube | 0.00000802 | 0.00000591
(B) strip, sheet | 0.00100 | 0.000739
(iv) Cold forming:
(A) direct application-single stand | 0.0000140 | 0.0000103
(B) direct application-multiple stands | 0.000110 | 0.0000813
(C) recirculation-single stand | 0.00000120 | 0.000000887
(D) recirculation-multiple stands | 0.00000641 | 0.00000473
(E) combination-multiple stand | 0.0000573 | 0.0000423
(v) Continuous annealing | 0.00000802 | 0.00000591
(vi) Wet air pollution control devices:
(A) fume scrubbers | 0.00866 ² | 0.00638 ²
¹ Pounds per ton of product for all operations except fume scrubbers.
² The values are expressed in pounds per day for this operation.

For PSNS, Table II.D.3 presents the pretreatment standards for chromium (VI) that would apply to discharges in the stainless steel segment for the Steel Finishing Subcategory for each operation as applicable.

Table II.D.3.—Pretreatment Standards (PSNS) for Chromium (VI)
| Maximum daily ¹ | Maximum monthly average ¹
(i) Acid pickling and other descaling:
(A) bar, billet | 0.0000922 | 0.0000680
(B) pipe, tube | 0.000309 | 0.000228
(C) plate | 0.0000140 | 0.0000103
(D) strip, sheet | 0.000281 | 0.000207
(ii) Acid regeneration:
(A) fume scrubbers | 0.0577² | 0.0426
(iii) Alkaline cleaning:
(A) pipe, tube | 0.00000802 | 0.00000591
(B) strip, sheet | 0.00100 | 0.000739
(iv) Cold forming:
(A) direct application-single stand | 0.0000140 | 0.0000103
(B) direct application-multiple stands | 0.000110 | 0.0000813
(C) recirculation-single stand | 0.00000120 | 0.000000887
(D) recirculation-multiple stands | 0.00000641 | 0.00000473
(E) combination-multiple stand | 0.0000573 | 0.0000423
(v) Continuous annealing | 0.00000802 | 0.00000591
(vi)Wet air pollution control devices:
(A) fume scrubbers | 0.00866 ² | 0.00638 ²
¹ Pounds per ton of product for all operations except fume scrubbers.
² The values are expressed in pounds per day for this operation.

E. Pretreatment Standards for Phenol for the Cokemaking Subcategory

Generally, EPA establishes pretreatment standards for BAT pollutants that pass through publicly owned treatment works (POTWs) to waters of the U.S. or interfere with POTW operations or sludge disposal practices. The proposed regulation would establish PSES and PSNS for phenol for the byproducts segment of the Cokemaking Subcategory, based on the Agency's POTW pass-through analysis. To determine whether a pollutant passes through POTWs, EPA generally compares the average percentage of a pollutant removed by well-operated POTWs performing secondary treatment to the percentage of a pollutant removed by BAT treatment. When the median percentage removed nationwide by well-operated POTWs is less than the median percentage removed by direct dischargers complying with the proposed BAT effluent limitations, EPA typically determines that the pollutant passes through.

For the proposal, EPA calculated a POTW percent removal of 95% for phenol using data from the U.S. EPA Fate of Priority Pollutants in Publicly Owned Treatment Works (EPA 440/1-82/303, September 1982). The Agency calculated a cokemaking BAT percent removal of 99.9% for phenol based on data from iron and steel manufacturing facilities demonstrating BAT technology. Because the BAT percent removal is higher than the POTW percent removal, EPA concluded at the time of proposal that phenol in cokemaking process wastewater would pass through POTWs. However, in today's action EPA is considering finding that phenol does not pass through for the Cokemaking Subcategory of the proposed regulation. Instead, EPA is considering the following approach employed by EPA in the Organic Chemicals, Plastics, and Synthetic Fibers (OCPSF) guideline.

As explained in the “Supplement to the Development Document for Effluent Limitations and Guidelines and New Source Performance Standards for the Organic Chemicals, Plastics, and Synthetic Fibers Point Source Category” (EPA 821-R-93-007), EPA determined that phenol is highly biodegradable and is treated by POTWs to the same non-detect levels (10 parts per billion (ppb) or 10 μg/L) that the OCPSF direct dischargers achieve. EPA also observed that the direct dischargers had significantly higher influent concentrations than the POTWs, with the result that the OCPSF direct dischargers showed higher removals than the performance at the POTWs. EPA determined in the OCPSF rule that phenol did not pass through. EPA reasoned that application of the traditional approach to these facts would reflect the significant differences in influent concentrations rather than a real difference in the POTWs' ability to treat phenols.

For the cokemaking subcategory in the Iron and Steel Point Source Category, EPA concluded at proposal that phenol passed through because the BAT percent removal was greater than 99.9 percent, while the POTW percent removal was 95 percent. Both the POTW and the cokemaking BAT facility were capable of treating phenol to a non-detectable level. However, as was the case for the OCPSF rulemaking, the influent concentrations of phenol at the BAT facility in the cokemaking subcategory are much higher than those at the POTWs. The average influent concentrations for phenol for the cokemaking BAT facility ranged from 48,000 μg/L to greater than 400,000 μg/L. On the other hand, the average influent phenol concentration for eight POTWs that passed the editing criteria was only 387 μg/L, and the average effluent concentrations were 10 to 27 μg/L corresponding to an average percent removal of 95.25 percent. Because the data for this subcategory resemble the data in OCPSF, EPA is considering employing the OCPSF approach here. Therefore, EPA is considering making a finding that phenol does not pass through because it is treated to essentially the same level by direct dischargers and POTWs.

In addition, EPA conducted an additional POTW pass-through analysis following proposal using 1997-1998 data from a well-operated POTW performing secondary treatment on cokemaking process wastewater. This data is in the iron and steel rulemaking record. Using these alternative data, the Agency found that the POTW percent removal for phenol is 99.9%—a value equivalent to the BAT percent removal. Based upon this analysis, phenol would not pass through POTWs. Consequently, EPA is considering finding that phenol does not pass through for the Cokemaking Subcategory of the proposed regulation.

EPA solicits comment on the results of the POTW pass-through analysis using the alternative data and whether the Agency should decide not to establish pretreatment standards for phenol for the Cokemaking Subcategory.

F. Alternate BAT, NSPS, PSES, and PSNS Limitations for the By-product Recovery Segment of the Cokemaking Subcategory

EPA is requesting comment on an alternative approach to regulating discharges from by-product coke plants. Under this alternative, water added to optimize biological treatment processes would be regulated in the same manner as other flows added to cokemaking wastewaters (e.g., flows from wet desulfurization systems and coke plant NESHAP controls). In the proposed regulation published on December 27, 2000, EPA included 50 gallons per ton (gpt) of control water flow in the list of flow sources used to determine the baseline model production-normalized flow rate (PNF). EPA now recognizes that this control water is not used at all cokemaking biological treatment plants. Additionally, this flow is not necessary for the operation of physical/chemical treatment systems operated at a majority of indirect discharging facilities. Therefore, adding this flow to the baseline PNF would yield a higher PNF, and, consequently, less stringent limits than appear to be appropriate for many dischargers in the segment. For this reason, EPA is now considering not including this control water flow in the baseline cokemaking model PNFs. The result would be a decrease in the baseline cokemaking model PNF from 158 gpt to 108 gpt.

In order to accommodate the facilities that actually add water to optimize biological treatment, EPA would make available an incremental flow allowance (expressed as a footnote) for the facilities. Those facilities using control water in the operation of their biological treatment systems would be allowed an increase in limitations not to exceed 46.3 percent. Facilities not using biological treatment for cokemaking wastewaters would not be eligible for the additional allowance. (EPA would maintain the other allowances EPA proposed in December 2000, which are printed below for the sake of completeness.)

This alternative approach would not impact EPA's estimated cost of compliance. The Technical Development Document (EPA-821-B-00-011) presents the PNF development in section 7.3 and the methodology for costing in section 9.2.

For this revision, EPA would base the new limitations on the pollutant concentrations established for the proposed rulemaking and a PNF of 108 gpt. The following tables show the by-products cokemaking limitations which EPA would promulgate under this approach. Table II.F.1 presents the BAT limitations. Table II.F.2 presents the NSPS limitations. Table II.F.3 presents the Physical Chemical Treatment PSES limitations. Table II.F.4 presents the Physical Chemical plus Biological Treatment PSES limitations. Table II.F.5 presents the Physical Chemical plus Biological Treatment PSNS limitations.

Table II.F.1.—BAT Effluent Limitations
Regulated parameter | Maximum daily ¹ | Maximum monthly avg. ¹
Ammonia (as N) | 0.000936 | 0.000422
Benzo(a)pyrene | 0.0000621 | 0.0000208
Cyanide | 0.00711 | 0.00269
Mercury | 0.000000591 | 0.000000357
Naphthalene | 0.0000704 | 0.0000236
Phenol | 0.0000227 | 0.0000128
Selenium | 0.000126 | 0.000109
Thiocyanate | 0.00112 | 0.000786
TRC | 0.000450 |
¹ Pounds per ton of product.

The following paragraphs, (1) through (5), would appear in the regulation, following the table of effluent limitations.

(1) Increased loadings, not to exceed 9.5 percent of the above limitations, shall be provided for process wastewaters from wet desulfurization systems, but only to the extent such systems generate process wastewaters.

(2) Increased loadings, not to exceed 6.3 percent of the above limitations, shall be provided for process wastewaters generated as a result of control measures necessary for compliance with by-product coke plant NESHAPs, but only to the extent such systems generate process wastewaters.

(3) Increased loadings shall be provided for process wastewaters from other wet air pollution control systems (except those from coal charging and coke pushing emission controls), coal tar processing operations and coke plant groundwater remediation systems, but only to the extent such systems generate process wastewaters and those wastewaters are co-treated with process wastewaters from by-product cokemaking wastewaters.

(4) The effluent limitations for TRC shall be applicable only when chlorination of cokemaking wastewaters is practiced.

(5) Increased loadings, not to exceed 46.3 percent of the above limitations, shall be provided for water used for the optimization of coke plant biological treatment systems.

Table II.F.2.—New Source Performance Standards (NSPS)
Regulated parameter | Maximum daily ¹ | Maximum monthly avg. ¹
Ammonia (as N) | 0.000936 | 0.000422
Benzo(a)pyrene | 0.0000621 | 0.0000208
Cyanide | 0.00711 | 0.00269
Mercury | 0.000000591 | 0.000000357
Naphthalene | 0.0000704 | 0.0000236
Oil & grease | 0.0168 | 0.00902
Phenol | 0.0000227 | 0.0000128
Selenium | 0.000126 | 0.000109
Thiocyanate | 0.00112 | 0.000786
TRC | 0.000450 |
TSS | 0.0454 | 0.0230
¹ Pounds per ton of product.

The following paragraphs, (1) through (5), would appear in the regulation, following the table of effluent limitations.

(1) Increased loadings, not to exceed 9.5 percent of the above limitations, shall be provided for process wastewaters from wet desulfurization systems, but only to the extent such systems generate process wastewaters.

(2) Increased loadings, not to exceed 6.3 percent of the above limitations, shall be provided for process wastewaters generated as a result of control measures necessary for compliance with by-product coke plant NESHAPs, but only to the extent such systems generate process wastewaters.

(3) Increased loadings shall be provided for process wastewaters from other wet air pollution control systems (except those from coal charging and coke pushing emission controls), coal tar processing operations and coke plant groundwater remediation systems, but only to the extent such systems generate process wastewaters and those wastewaters are co-treated with process wastewaters from by-product cokemaking wastewaters.

(4) The effluent limitations for TRC shall be applicable only when chlorination of cokemaking wastewaters is practiced.

(5) Increased loadings, not to exceed 46.3 percent of the above limitations, shall be provided for water used for the optimization of coke plant biological treatment systems.

Table II.F.3.—Physical Chemical Treatment Pretreatment Standards (PSES)
Regulated parameter | Maximum daily ¹ | Maximum monthly avg.¹
Ammonia (as N) | 0.0578 | 0.0382
Cyanide | 0.0167 | 0.00875
Naphthalene | 0.00183 | 0.000594
Phenol | 1.46 | 0.492
Selenium | 0.000854 | 0.000711
Thiocyanate | 0.275 | 0.217
¹ Pounds per ton of product.

The following paragraphs, (1) through (3), would appear in the regulation, following the table of effluent limitations.

(1) Increased loadings, not to exceed 13.9 percent of the above limitations, shall be provided for process wastewaters from wet desulfurization systems, but only to the extent such systems generate process wastewaters.

(2) Increased loadings, not to exceed 9.3 percent of the above limitations, shall be provided for process wastewaters generated as a result of control measures necessary for compliance with by-product coke plant NESHAPs, but only to the extent such systems generate process wastewaters.

(3) Increased loadings shall be provided for process wastewaters from other wet air pollution control systems (except those from coal charging and coke pushing emission controls), coal tar processing operations and coke plant groundwater remediation systems, but only to the extent such systems generate process wastewaters and those wastewaters are co-treated with process wastewaters from by-product cokemaking wastewaters.

Table II.F.4.—Physical Chemical Plus Biological Pretreatment Standards (PSES)
Regulated parameter | Maximum daily ¹ | Maximum monthly avg.¹
Ammonia (as N) | 0.00368 | 0.00244
Cyanide | 0.00421 | 0.00288
Naphthalene | 0.0000704 | 0.0000236
Phenol | 0.0000227 | 0.0000128
Selenium | 0.000126 | 0.000109
Thiocyanate | 0.00112 | 0.000786
¹ Pounds per ton of product.

The following paragraphs, (1) through (4), would appear in the regulation, following the table of effluent limitations.

(1) Increased loadings, not to exceed 9.5 percent of the above limitations, shall be provided for process wastewaters from wet desulfurization systems, but only to the extent such systems generate process wastewaters.

(2) Increased loadings, not to exceed 6.3 percent of the above limitations, shall be provided for process wastewaters generated as a result of control measures necessary for compliance with by-product coke plant NESHAPs, but only to the extent such systems generate process wastewaters.

(3) Increased loadings shall be provided for process wastewaters from other wet air pollution control systems (except those from coal charging and coke pushing emission controls), coal tar processing operations and coke plant groundwater remediation systems, but only to the extent such systems generate process wastewaters and those wastewaters are co-treated with process wastewaters from by-product cokemaking wastewaters.

(4) Increased loadings, not to exceed 46.3 percent of the above limitations, shall be provided for water used for the optimization of coke plant biological treatment systems.

Table II.F.5.—Physical Chemical Plus Biological Treatment Pretreatment Standards (PSNS)
Regulated parameter | Maximum daily ¹ | Maximum monthly avg.¹
Ammonia (as N) | 0.00368 | 0.00244
Cyanide | 0.00421 | 0.00288
Naphthalene | 0.0000704 | 0.0000236
Phenol | 0.0000227 | 0.0000128
Selenium | 0.000126 | 0.000109
Thiocyanate | 0.00112 | 0.000786
¹ Pounds per ton of product.

The following paragraphs, (1) through (4), would appear in the regulation, following the table of effluent limitations.

(1) Increased loadings, not to exceed 9.5 percent of the above limitations, shall be provided for process wastewaters from wet desulfurization systems, but only to the extent such systems generate process wastewaters.

(2) Increased loadings, not to exceed 6.3 percent of the above limitations, shall be provided for process wastewaters generated as a result of control measures necessary for compliance with by-product coke plant NESHAPs, but only to the extent such systems generate process wastewaters.

(3) Increased loadings shall be provided for process wastewaters from other wet air pollution control systems (except those from coal charging and coke pushing emission controls), coal tar processing operations and coke plant groundwater remediation systems, but only to the extent such systems generate process wastewaters and those wastewaters are co-treated with process wastewaters from by-product cokemaking wastewaters.

(4) Increased loadings, not to exceed 46.3 percent of the above limitations, shall be provided for water used for the optimization of coke plant biological treatment systems.

G. BPT Revision for By-Product Cokemaking Operations

In the December 2000 notice, EPA proposed to recodify the current BPT for two cokemaking segments, merchant coke manufacturing and iron and steel coke manufacturing. We are now considering combining these two historical segments into one, named by-product coke manufacturing, because we now believe there is no meaningful distinction between these two segments. As a result, the iron and steel coke manufacturing plants would be subject to the same BPT limits as the merchant coke plants. (The current BPT limitations for merchant by-product cokemaking manufacturing plants are within 7 percent of those for iron and steel by-product cokemaking manufacturing plants.) The current BPT limitations for merchant coke plants that would apply to iron and steel coke manufacturing plant under this approach are shown in Table II.G.1:

Table II.G.1.—Effluent Limitations (BPT)
Process wastewater source | Maximum daily ² | Maximum Monthly Avg.²
By-product cokemaking: ¹
Oil & grease | 0.0698 | 0.0232
TSS | 0.540 | 0.280
¹ Increased loadings, not to exceed 11 percent of the above limitations, shall be provided for process wastewaters from wet desulfurization systems, but only to the extent such systems generate process wastewaters.
² Pounds per ton of product.

EPA believes there will be no significant adverse environmental impacts associated with this approach. Moreover, there would be no additional costs of compliance to achieve the resulting BPT. EPA solicits comments on this approach and solicits other options for consideration.

III. Corrections to Proposed Preamble and Regulation

A. General

EPA is making the following corrections to the proposed regulation and accompanying preamble for the iron and steel manufacturing point source category.

In reviewing the notice and proposed rulemaking (65 FR 81964), EPA discovered one error caused by a file conversion problem during Federal Register publication that occurred more than 100 times (starting on page 82000). In numerous instances on or after page 82000, words starting with the letters “For” (including the word “For” itself) were printed without the “For.” Therefore, “Forming” became “ming,” “Foreign” became “eign,” “Forging” became “ging,” and sentences that started with “For” appeared without their first word. Although this action does not explicitly correct each and every such omission, EPA intends for the proposal to read logically and encourages reviewers to use the context of the sentence, and replace the missing letters as necessary. If reviewers have any questions on how to interpret inaccurately spelled words, please contact any of the EPA staff listed under the “For Further Information Contact” heading at the beginning of today's action.

B. Corrections to Preamble

1. On page 81964, column 2, paragraph 2 under the heading “How to Submit Comments,” the second sentence should read “Electronic comments must specify docket number W-00-25 and must be submitted as an ASCII, Word, or WordPerfect file avoiding the use of special characters and any form of encryption.”

2. On page 81968, in the summary table, the entries for Subpart A, Cokemaking, (By -Product Recovery) should be as follows:

Subpart A. Cokemaking (By-Product Recovery) | BAT/NSPS | BAT-3 | tar removal, equalization, ammonia stripping, temperature control, equalization, single-stage biological treatment with nitrification, alkaline chlorination, and sludge dewatering.
| PSES/PSNS | PSES-3 | tar removal, equalization, ammonia stripping, temperature control, equalization, single-stage biological treatment with nitrification.
| co-proposed PSES | PSES-1 | tar removal, equalization, ammonia PSES stripping.

3. On page 81972, column 1, the sentence beginning in the last line should be “See Appendix A of the Development Document for the Proposed Effluent Limitations and Guidelines for the Iron and Steel Manufacturing Point Source Category.”

4. On page 81974, column 3, at the end of line 40, the sentence should be “The exception is Subpart D (the Integrated and Stand Alone Hot Forming subcategory) for which EPA is proposing alternative BAT approaches to account for possible economic issues.”

5. On page 81977, column 2, first paragraph under Non-Integrated Steelmaking and Hot Forming Operations—Subpart E, the second sentence should be “The wastewater generated from this proposed subcategory originates from direct contact water with gases in the vacuum degassing process; direct contact water used for spray cooling and for flume flushing to transport scale in the casting process; and process water used for scale breaking, flume flushing, and direct contact cooling in the hot forming process.”

6. On page 81979, column 1, end of line 40, the second sentence should be “From these data, EPA identified 71 POCs for the Cokemaking Subcategory: 4 conventionals, 1 non-conventional metal, 30 non-conventional organics, 10 other non-conventionals, 22 priority organics, 3 priority metals, and 1 other priority pollutant (total cyanide).”

7. On page 81979, column 1, at the end of line 53, add these three sentences: “EPA could not evaluate total Kjeldahl nitrogen (TKN), weak acid dissociable (WAD) cyanide, and thiocyanate using the POC selection criteria because no method MLs were available at the time of the Agency's analysis. Nevertheless, EPA selected these pollutants as POCs because they are widely present in cokemaking wastewater (each was detected at significant concentrations in 16 out of 16 untreated cokemaking wastewater samples collected) and are important indicators of biological treatment effectiveness. In addition, EPA selected nitrate/nitrite as a POC even though it failed the screening criteria because of its importance as an indicator of biological treatment effectiveness.”

8. On page 81979, column 2, beginning on line 51, the next two paragraphs should be: “EPA identified 27 POCs for the blast furnace segment of the Ironmaking Subcategory: 2 conventionals, 7 non-conventional metals, 1 non-conventional organic, 10 other non-conventionals, 6 priority metals, and 1 other priority pollutant (total cyanide). EPA could not evaluate TKN, WAD cyanide, and thiocyanate using the POC selection criteria because no method MLs were available at the time of the Agency's analysis. Nevertheless, EPA selected these pollutants as POCs because they are widely present in the blast furnace wastewater (each was detected in at least 60% of the untreated blast furnace wastewater samples collected).”

“EPA identified 65 POCs for the sintering segment of the Ironmaking Subcategory: 2 conventionals, 6 non-conventional metals, 24 non-conventional organics, 11 other non-conventionals, 11 priority organics, 10 priority metals, and 1 other priority pollutant (total cyanide). EPA could not evaluate TKN, WAD cyanide, and thiocyanate using the POC selection criteria because no method MLs were available at the time of the Agency's analysis. Nevertheless, EPA selected those pollutants as POCs because they are widely present in sintering wastewater (each was detected in 10 out of 10 untreated sintering wastewater samples collected).”

9. On page 81980, column 1, line 30, remove the sentence beginning on line 30 and ending on line 34 (i.e. the last sentence of that paragraph).

10. On page 81980, column 1, line 64, the next three sentences should be: “Some operators report achieving zero discharge by balancing the applied water for gas conditioning with evaporative losses but not all sites are able to achieve this because of safety concerns. One of the eight BOFs operating wet-open combustion gas cleaning systems discharge less than 20 gpt, and two of the seven BOFs operating wet-suppressed combustion gas cleaning systems discharge less than 20 gpt. EPA is using a PNF for recycle system blowdown of 20 gpt at BOFs with wet-open combustion gas cleaning systems, and 20 gpt for BOFs equipped with wet-suppressed combustion gas cleaning systems.”

11. On page 81980, column 2, remove the sentence beginning on line 11 and ending on line 15.

12. On page 81980, column 2, line 50, the next two sentences should be “EPA identified the following 11 POCs for the carbon and alloy segment of the Integrated and Stand-Alone Hot Forming Subcategory: 2 conventionals, 3 non-conventional metals, 4 other non-conventionals, and 2 priority metals. EPA identified the following 15 POCs for the stainless segment of the Integrated and Stand-Alone Hot Forming Subcategory: 2 conventionals, 4 non-conventional metals, 4 other non-conventionals, and 5 priority metals.”

13. On page 81980, column 3, line 60, the paragraph should be “EPA identified the following 10 POCs for the carbon and alloy segment of the Non-Integrated Steelmaking and Hot Forming Subcategory: 2 conventionals, 2 non-conventional metals, 4 other non-conventionals, and 2 priority metals. EPA selected lead as a POC for the reasons set out above for integrated and stand-alone hot forming mills. EPA identified the following 22 POCs for the stainless segment of the Non-Integrated Steelmaking and Hot Forming Subcategory: 2 conventionals, 7 non-conventional metals, 6 other non-conventionals, 1 priority organic, and 6 priority metals. EPA selected lead and zinc as POCs for the reasons set out above for integrated and stand-alone hot forming mills.”

14. On page 81981, column 1, line 16, the sentence should be “Two types of air pollution control systems (semi-wet and dry) are commonly used in the EAF steelmaking operations; neither type of system generates process wastewater.”

15. On page 81981, column 1, remove the sentences beginning on line 20 and ending on line 26.

16. On page 81981, column 3, line 15, the paragraph should be “EPA identified a total of 37 POCs for the carbon and alloy segment of the Steel Finishing Subcategory: 2 conventionals, 8 non-conventional metals, 9 non-conventional organics, 8 other non-conventionals, 2 priority organics, and 8 priority metals. EPA identified a total of 49 POCs for the stainless segment of the Steel Finishing Subcategory: 2 conventionals, 12 non-conventional metals, 14 non-conventional organics, 7 other non-conventionals, 4 priority organics, 9 priority metals, and one other priority pollutant (total cyanide).”

17. On page 81982, column 1, line 12, the next two sentences should be “For sulfuric acid pickling of carbon and alloy steel, EPA is using a PNF of 230 gpt for strip and sheet (achieved by four of nine lines), 280 gpt for bar, billet, rod, and coil, and 500 gpt for pipe and tube. For acid pickling of stainless steel, EPA is using a PNF of 230 gpt for bar and billet (representing the median flow rate), 700 gpt for sheet and strip (achieved by 19 of 50 lines), and 35 gpt for plate.”

18. On page 81982, column 1, the sentences from line 37 to line 53 should be “EPA is using the following PNFs for cold rolling of carbon and alloy steel: single stand, direct application—3 gpt; single stand, recirculation—1 gpt; multi-stand, direct application—275 gpt; multi-stand, recirculation—25 gpt; multi-stand, combination—143 gpt. EPA is using the following PNFs for cold rolling of stainless steel: single stand, direct application—35 gpt; single stand, recirculation—3 gpt; multi-stand, direct application—275 gpt; multi-stand, recirculation—16 gpt; multi-stand, combination—143 gpt. EPA is using a PNF for stand-alone continuous annealing lines of 20 gpt (achieved by seven of 14 stand-alone continuous annealing lines). Wastewater discharge rates for alkaline cleaning vary by product and steel type. For carbon and alloy steel, EPA is using a PNF of 350 gpt for sheet and strip and 20 gpt for pipe and tube. EPA is using a PNF of 2,500 gpt for stainless sheet and strip. EPA is using a PNF of 550 gpt for hot dip coating operations.”

19. On page 81982, column 1, remove the sentence that begins on line 65 and ends on line 66.

20. On page 81982, column 2, line 31, the paragraph should be “Using the POC selection criteria presented above, EPA identified 10 POCs for the Other Operations Subcategory: 2 conventionals, 4 non-conventional metals, and other non-conventionals.”

21. On page 81986, column 1, line 21, the sentence should be “The third BAT option also results in no further reduction in flow beyond BAT-1 levels, but does result in the additional removal of 42% of the total cyanide (as well as additional removal of other pollutants) from direct discharging cokemaking wastestreams beyond BAT-1 levels through the use of alkaline chlorination.”

22. On page 81987, column 1, line 15, the paragraph should be “Under PSES-1, the rate of removal of ammonia can increase by 69% over current levels. Under PSES-2, removal of cyanide can increase by 28% over that expected under PSES-1. Under PSES-3, the removal of ammonia can increase by 28% over that expected under PSES-2. Under PSES-4, there are no additional flow reductions and no significant additional pollutant removals.”

23. On page 81988, column 3, the second table should be numbered “Table V.C.3-3.”

24. On page 81988, column 3, the name of the second table should be “estimated pollutant loading reduction for integrated steelmaking.”

25. On page 81988, column 3, in the second table, the number in the second column under the technical options “(BAT-1 and PSES-1)” for entry “Incidental Removal of Conventional Pollutants (TSS and O&G)” should be “1.9.”

26. On page 81989, in Table V.C.4-2., under “Carbon and Alloy Steels”, align the entry “Annual O&M costs” to the left margin in the first column.

27. On page 81989, in Table V.C.4-2., insert an extra line after “Annual O&M costs” under Carbon and Alloy Steels”. In this line, insert “One-time costs”, “1.0”, and “0.1” in the three columns.

28. On page 81990, in Table V.C.4-3., the entry in the second column under technology option “BAT-1” in the line labeled “Removal of Priority and Non-conventional Pollutants” should be “02.”

29. On page 81990, column 2, line 11, the sentence should be “Stainless steel integrated and stand-alone hot forming operations discharge indirectly approximately 1,400 pounds of total priority and non-conventional pollutants.”

30. On page 81990, column 2, line 37, the sentence should be “As with the Carbon and Alloy segment, the technology basis of BAT-1 for the Stainless segment consists of a scale pit with oil skimming, a roughing clarifier, sludge dewatering, high rate recycle, with mixed-media filtration.”

31. On page 81992, column 1, line 1, the two sentences should be “EPA estimated that carbon and alloy steel operations directly discharge approximately 2.8 million pounds of conventional pollutants (TSS and O&G). These operations also discharge approximately 47,000 pounds of total toxic and non-conventional pollutants directly and approximately 3,100 pounds indirectly.”

32. On page 81992, column 1, line 39, the sentence should be “The technological basis for PSES-1 is solids removal, a cooling tower, sludge dewatering, high-rate recycle, and mixed-media filtration.”

33. On page 81993, in Table V.C.6-1, in the section titled “Stainless Steels”, insert an “X” in the line for “Countercurrent rinses” in the third column under Technology option “PSES-1.”

34. On page 82009, column 3, line 12, the sentence should be “EPA estimates that approximately 6.2 million pounds (dry wt.) per year of additional biological treatment sludge will be generated by the cokemaking subcategory as a result of lower effluent ammonia limits.”

35. On page 82009, column 3, line 22, the paragraph should be “Additional solids captured by roughing clarifiers and sand filters proposed for recycle water systems within the integrated and non-integrated steelmaking facilities (blast furnace, sinter plant, BOF, vacuum degasser, continuous caster, hot forming mill) will account for an additional 0.5 percent of the solids currently being collected in scale pits and classifiers. Data provided in the industry surveys indicates the total annual sludge and scale production from all of these facilities, including stand-alone hot formers, was approximately 3.8 million tons/year (dry weight). Solids removal equipment proposed for this rule is expected to remove an additional 27,500 tons per year of dry wastewater treatment sludge.”

36. On page 82010, column 1, line 13, these two sentences should be “Data provided in the industry surveys indicates the total annual sludge production from all steel finishing operations throughout the industry was approximately 690,000 tons/year (dry weight). Additional sludge generation from finishing operations resulting from this proposed rule is approximately 2,200 tons/year (dry weight).”

37. On page 82010, column 2, line 40, the sentence should be “The pH level in process wastewaters subject to a subpart within this part shall be monitored at the point of discharge to the receiving water or at the point at which the wastewater leaves the wastewater treatment facility operated to treat effluent subject to that subpart.”

38. On page 82010, column 3, line 15, the bullet should be “chemical is not considered as a volatile compound, e.g., generally with Henry's Law Constant greater than or equal to 1x10−⁴ atm.m³/mol.”

39. On page 82013, column 3, line 9, the sentence should be “For a more detailed discussion of alternate approaches to the POTW pass-through analysis, see the Technical Development Document (EPA-821-B-00-011), Appendices B and C.”

40. On page 82016, column 3, line 38, these two sentences should be “BAT-2 results in no further reduction in flow beyond that to be achieved by BAT-1, but does result in the additional removal of 24% of the total cyanide from direct discharging cokemaking wastestreams through the use of cyanide precipitation. BAT-3 also results in no further reduction in flow beyond that to be achieved by BAT-1, but does result in the additional removal of 42% of the total cyanide from direct discharging cokemaking wastestreams beyond BAT-1 levels through the use of alkaline chlorination.”

41. On page 82017, column 1, line 33, the sentence should be “EPA is co-proposing two sets of technologies to serve as the bases for the development of the proposed PSES limits: 1) tar removal, equalization, and ammonia stripping.”

42. On page 82017, column 3, line 44, the sentence should be “The treatment technologies that serve as the basis for the development of the proposed BAT limits for the ironmaking subcategory (Blast Furnace and Sintering Segments) are: solids removal with high-rate recycle and metals precipitation, alkaline chlorination, and mixed-media filtration for the blowdown wastewater.”

43. On page 82019, column 2, line 15, the sentence should be “The treatment technologies that serve as the basis for the development of BAT Option A are: scale pit with oil skimming, roughing clarifier, cooling tower with high rate recycle and mixed-media filtration of recycled flow or of low volume blowdown flow.”

44. On page 82022, column 1, line 39, the section title should be “PSES.”

45. On page 82022, column 2, line 49, the sentence should be “The treatment technologies that serve as the basis for the development of the proposed BAT limits for the stainless segment of the integrated and stand alone hot forming subcategory are: Scale pit with oil skimming, roughing clarifier, with high rate recycle and mixed-media filtration of recycled flow or of low volume blowdown flow.”

46. On page 82024, column 1, line 40, the sentence should be “EPA estimates that selection of the BAT-1 option as the technology basis would result in the reduction of flow by this segment of the steel finishing subcategory by 65%, and the reduction in the discharge of non-conventional pollutants by 25%.”

47. On page 82025, column 1, line 11, the section title should be “NSPS.”

48. On page 82030, in the table near the bottom of the page, the following numbers should be underlined: “1,850,000”, “1,425,000”, and “3,205,000.”

49. On page 82031, in the table near the top of the page, the following numbers should be underlined: “3,280,000”, “1,690,000”, and “3,270,000.”

50. On page 82038, column 1,line 41, the definition for “NSPS” should appear on a new line.

51. On page 82038, column 1, line 76, the definition of “PSES” should be “Pretreatment standards for existing sources of indirect discharges, under Section 307(b) of the CWA, applicable to indirect dischargers that commenced construction after December 27, 2000. See 40 CFR 403.3(k)(1).”

C. Corrections to Regulation

1. On page 82039, in column 2, correct § 420.1(b) as follows:

§ 420.1 General Applicability.

* * * * *

(b) This part does not apply to discharges and the introduction of pollutants to POTWs resulting from cold finished bar or cold finished pipe and tube operations, including any acid pickling and other related process operations; wire drawing or coating operations; or, stand-alone, hot-dipped coating operations for products other than flat-rolled products.

§ 420.4 [Corrected]

2. On page 82041, in column 1, correct § 420.4 by removing § 420.4 (h).

§ 420.11 [Corrected]

3. On page 82041, in column 2, correct paragraph (a) and on page 82041, in column 3, correct paragraph (h) as follows:

§ 420.11 Subcategory definitions.

* * * * *

(a) Product means the daily operating (production) rate of metallurgical coke plus coke breeze determined in accordance with § 420.3.

* * * * *

(h) Wet desulfurization system means one that involves scrubbing the sulfur-rich coke oven gas stream with an absorbent solution, with subsequent recovery of elemental sulfur from the solution and discharge of process wastewater.

§ 420.14 [Corrected]

4. On page 82042, in column 1, correct paragraph (a)(3) as follows:

§ 420.14 Effluent limitations guidelines representing the degree of effluent reduction attainable by the application of the best available control technology economically achievable (BAT).

* * * * *

(a) * * *

(3) Increased loadings shall be provided for process wastewaters from other wet air pollution control systems (except those from coal charging and coke pushing emission controls), coal tar processing operations and coke plant groundwater remediation systems, but only to the extent such systems generate process wastewaters and those wastewaters are co-treated with process wastewaters from by-product cokemaking processes.

* * * * *

§ 420.15 [Amended]

5. On page 82042, correct the title of the table in § 420.15(b) to read as follows: “PERFORMANCE STANDARDS (NSPS)”.

6. On page 82043, correct the title of the table in § 420.15(b) to read as follows: “PERFORMANCE STANDARDS (NSPS)—Continued”.

§ 420.15 [Amended]

7. On page 82043, in column 1, correct § 420.15(b)(3) as follows:

§ 420.15 New source performance standards (NSPS).

* * * * *

(b) * * *

(3) Increased loadings shall be provided for process wastewaters from other wet air pollution control systems (except those from coal charging and coke pushing emission controls), coal tar processing operations and coke plant groundwater remediation systems, but only to the extent such systems generate process wastewaters and those wastewaters are co-treated with process wastewaters from by-product cokemaking processes.

* * * * *

§ 420.16 [Corrected]

8. On page 82043, in column 2, correct § 420.16(a)(3) Option 1; and on page 82044, in column 1, correct § 420.16(a)(3) Option 2 as follows:

§ 420.16 Pretreatment standards for existing sources (PSES).

* * * * *

(a) * * *

Option 1 for paragraph (a)(3): (3) Increased loadings shall be provided for process wastewaters from other wet air pollution control systems (except those from coal charging and coke pushing emission controls), coal tar processing operations and coke plant groundwater remediation systems, but only to the extent such systems generate process wastewaters and those wastewaters are co-treated with process wastewaters from by-product cokemaking processes.

* * * * *

Option 2 for paragraph (a)(3): (3) Increased loadings shall be provided for process wastewaters from other wet air pollution control systems (except those from coal charging and coke pushing emission controls), coal tar processing operations and coke plant groundwater remediation systems, but only to the extent such systems generate process wastewaters and those wastewaters are co-treated with process wastewaters from by-product cokemaking processes.

* * * * *

§ 420.17 [Corrected]

9. On page 82044, in column 1, correct paragraph (b)(3) as follows:

§ 420.17 Pretreatment standards for new sources (PSNS).

* * * * *

(b) * * *

(3) Increased loadings shall be provided for process wastewaters from other wet air pollution control systems (except those from coal charging and coke pushing emission controls), coal tar processing operations and coke plant groundwater remediation systems, but only to the extent such systems generate process wastewaters and those wastewaters are co-treated with process wastewaters from by-product cokemaking processes.

* * * * *

§ 420.21 [Corrected]

10. On page 80244, column 2, correct the second sentence in paragraph (a)(2); on page 80244 in column 3 correct paragraph (d); and on page 80244, column 3, correct paragraph (f) as follows:

§ 420.21 Subcategory definitions.

* * * * *

(a) * * *

(2) * * * Molton iron produced in a blast furnace, and does not include slag skimmed remotely from the blast furnace. The daily operating (production) rate of sinter and molten iron must be determined in accordance with § 420.3. * * *

* * * * *

(d) Pg/L means picograms per liter (PPT = 1.0 × 10−¹² g/L).

* * * * *

(f) Wet-air pollution control system is an emission control system that utilizes water to clean process or furnace off-gases.

§ 420.25 [Corrected]

11. On page 82046, correct footnote 3 of the PERFORMANCE STANDARDS (NSPS) table in § 420.25(b)(1) to read: “³ Ten parts per quadrillion (10 × 10−¹² g/l).”

§ 420.26 [Corrected]

12. On page 82047, correct footnote 4 of the PRETREATMENT STANDARDS (PSES) table in § 420.26(c) to read: “⁴ Ten parts per quadrillion (10 × 10−¹² g/l).”

§ 420.27 [Corrected]

13. On page 82047, correct footnote 3 of the PRETREATMENT STANDARDS (PSNS) table in § 420.27(b)(1) to read: “³ Ten parts per quadrillion (10 × 10−¹² g/l).”

14. On page 82047, correct footnote 4 of the PRETREATMENT STANDARDS (PSNS) table in § 420.27(b)(3) to read: “⁴ Ten parts per quadrillion (10 × 10−¹² g/l).”

§ 420.31 [Corrected]

15. On page 82048, in column 2, correct the second sentence in paragraph (a) as follows:

§ 420.31 Subcategory definitions.

* * * * *

(a) * * * The daily operating (production) rates shall be determined in accordance with § 420.3.

16. On page 82048, in column 2, correct § 420.31 by removing and reserving paragraph (b).

§ 420.32 [Corrected]

17. On page 82048, correct footnote 2 of the EFFLUENT LIMITATIONS (BPT) table in § 420.32 to read: “² There shall be no discharge of process wastewater pollutants to waters of the U.S. for ladle metallurgy other than vacuum degassing.”

§ 420.34 [Corrected]

18. On page 82049, in column 1, correct § 420.34(c) as follows:

§ 420.34 Effluent limitations attainable by the application of the best available control technology economically achievable (BAT).

* * * * *

(c) Ladle Metallurgy other than Vacuum Degassing. There shall be no discharge of process wastewater pollutants to waters of the U.S.

§ 420.35 [Corrected]

19. On page 82050, in column 1, correct § 420.35(b)(3) as follows:

§ 420.35 New Source Performance Standards (NSPS).

* * * * *

(b) * * *

(3) Ladle Metallurgy other than Vacuum Degassing. There shall be no discharge of process wastewater pollutants to waters of the U.S.

§ 420.36 [Corrected]

20. On page 82051, in column 1, correct § 420.36(c) as follows:

§ 420.36 Pretreatment Standards for Existing Sources (PSES).

* * * * *

(c) Ladle Metallurgy other than Vacuum Degassing. There shall be no discharge of process wastewater pollutants to POTWs.

§ 420.37 [Corrected]

21. On page 82051, in column 1, correct § 420.37(b)(3) as follows:

§ 420.37 Pretreatment Standards for New Sources (PSNS).

* * * * *

(b) * * *

(3) Ladle Metallurgy other than Vacuum Degassing. There shall be no discharge of process wastewater pollutants to POTWs.

§ 420.41 [Corrected]

22. On page 82051, in column 2, correct second sentence in paragraph (a); and on page 82052, in column 2, correct paragraph (n) as follows:

§ 420.41 Subcategory definitions.

* * * * *

(a) Product * * * The daily operating (production) rate shall be determined in accordance with § 420.3.

* * * * *

(n) Skelp means flat, hot rolled steel.

§ 420.51 [Corrected]

23. On page 82054, correct § 420.51(c) as follows:

§ 420.51 Subcategory definitions.

* * * * *

(c) Electric arc furnace means one in which steel is produced by melting steel scrap by use of electric current passed through electrodes.

§ 420.52 [Corrected]

24. On page 82054, correct footnote 2 of the EFFLUENT LIMITATIONS (BPT) table in § 420.52 to read: “ ² There shall be no discharge of process wastewater pollutants to waters of the U.S. for electric arc furnaces or ladle metallurgy other than vacuum degassing.”

§ 420.54 [Corrected]

25. On page 82055, in column 1, correct paragraph (a)(4); and on page 82055, in column 1, correct paragraph (b)(4) as follows:

§ 420.54 Effluent limitations attainable by the application of the best available control technology economically achievable (BAT).

* * * * *

(a) * * *

(4) Ladle Metallurgy other than Vacuum Degassing. There shall be no discharge of process wastewater pollutants to waters of the U.S.

* * * * *

(b) * * *

(4) Ladle Metallurgy other than Vacuum Degassing. There shall be no discharge of process wastewater pollutants to waters of the U.S.

§ 420.56 [Corrected]

26. On page 82055, in column 2, correct paragraph (a)(4); and on page 82056, in column 1, correct paragraph (b)(4) as follows:

§ 420.56 Pretreatment Standards for Existing Sources (PSES).

* * * * *

(a) * * *

(4) Ladle Metallurgy other than Vacuum Degassing. There shall be no discharge of process wastewater pollutants to POTWs.

* * * * *

(b) * * *

(4) Ladle Metallurgy other than Vacuum Degassing. There shall be no discharge of process wastewater pollutants to POTWs.

§ 420.61 [Amended]

27. On page 82057, in column 2, correct § 420.61 by removing and reserving paragraph (z).

§ 420.64 [Amended]

28. On page 82059, in the EFFLUENT LIMITATIONS (BAT) table of § 420.64 (b)(1), correct the entry in the second column for paragraph (b)(1)(i)(C) to read “0.00000363”.

29. On page 82059, in the EFFLUENT LIMITATIONS (BAT) table of § 420.64 (b)(1), correct the entry in the second column for paragraph (b)(1)(i)(D) to read “0.00000518”.

30. On page 82059, in the EFFLUENT LIMITATIONS (BAT) table of § 420.64 (b)(1), correct the entry in the third column for paragraph (b)(1)(v)(C) to read “0.0000000944”.

31. On page 82062, in the EFFLUENT LIMITATIONS (BAT) table of § 420.64(e)(1), correct the entry in the second column for paragrpah (d)(1)(i)(D) to read “0.0000609”.

32. On page 82062, in the EFFLUENT LIMITATIONS (BAT) table of § 420.64(e)(1), correct the entry in the second column for paragraph (e)(1)(vii)(B) to read “0.00134”.

33. On page 82062, in the EFFLUENT LIMITATIONS (BAT) table of § 420.64(e)(1), correct the entry in the second column for paragraph (e)(1)(ix)(A) to read “0.0263”.

34. On page 82062, in the EFFLUENT LIMITATIONS (BAT) table of § 420.64(e)(1), correct the entry in the third column for paragraph (e)(1)(iii)(A) to read “0.0913”.

35. On page 82062, in the EFFLUENT LIMITATIONS (BAT) table of § 420.64(e)(1), correct the entry in the third column for paragraph (e)(1)(v)(C) to read “0.000000634”.

36. On page 82063, in the EFFLUENT LIMITATIONS (BAT) table of § 420.64(f)(1), correct the entry paragraph (f)(1)(iii)(B) by removing the superscripts in the second and third columns.

37. On page 82063, in the EFFLUENT LIMITATIONS (BAT) table of § 420.64(g)(1), correct the entry in the third column for paragraph (g)(1)(i)(B) to read “0.000546”.

38. On page 82063, in the EFFLUENT LIMITATIONS (BAT) table of § 420.64(g)(1), correct the entry in the third column for paragraph (g)(1)(iv)(C) to read “0.000000535”.

§ 420.65 [Amended]

39. On page 82065, in the PERFORMANCE STANDARDS (NSPS) table of § 420.65(b)(2), correct the entry in the second column for paragraph (b)(2)(i)(A)(2) to read “0.0638”.

40. On page 82065, in the PERFORMANCE STANDARDS (NSPS) table of § 420.65(b)(2), correct the entry in the second column for paragraph (b)(2)(i)(E)(5) to read “0.00895”.

41. On page 82066, in the PERFORMANCE STANDARDS (NSPS) table of § 420.65(b)(2), correct the entry in the third column for paragraph (b)(2)(i)(G)(1) to read “0.00196”.

42. On page 82067, in the PERFORMANCE STANDARDS (NSPS) table of § 420.65(b)(4), correct the entry in the third column for paragraph (b)(4)(i)(E)(3) to read “0.0000000944”.

43. On page 82068, in the PERFORMANCE STANDARDS (NSPS) table of § 420.65(b)(5), correct the entry in the second column for paragraph (B)(5)(i)(I)(1) to read “0.00999”.

44. On page 82071, in the PERFORMANCE STANDARDS (NSPS) table of § 420.65(b)(8), correct the entry in the third column for paragraph (b)(8)(i)(F)(1) to read “0.00973”.

45. On page 82071, in the PERFORMANCE STANDARDS (NSPS) table of § 420.65(b)(8), correct paragraph (b)(8)(i)(F)(1) by adding a “2” superscript in the second and third columns.

46. On page 82071, in the PERFORMANCE STANDARDS (NSPS) table of § 420.65(b)(9), correct the entry in the second column for paragraph (b)(9)(ix)(A) to read “0.0281”.

47. On page 82071, in the PERFORMANCE STANDARDS (NSPS) table of § 420.65(b)(9), correct the entry in the third column for paragraph (b)(9)(A) to read “0.0116”.

48. On page 82071, in the PERFORMANCE STANDARDS (NSPS) table of § 420.65(b)(9), correct paragraph (b)(9)(ix)(A) by adding a “2” superscript in the second and third columns.

§ 420.66 [Amended]

49. On page 82075, correct the PERFORMANCE STANDARDS (PSES) table of § 420.66 (e)(6) by adding a “2” superscript to the title.

§ 420.67 [Amended]

50. On page 82078, in the PRETREATMENT STANDARDS (PSNS) table of § 420.67(b)(2), correct the entry in the third column for entry in the third column for paragraph (B)(2)(i)(E)(3) to read “0.0000000944”.

51. Revise § 420.70 as follows.

§ 420.70 Applicability.

The provisions of this subpart are applicable to discharges and the introduction of pollutants into publicly owned treatment works resulting from production of direct-reduced iron, forging and briquetting operations.

§ 420.71 [Amended]

52. On page 82082, in column 1 correct paragraph (a)(2) as follows:

§ 420.71 Subcategory definitions.

* * * * *

(a) * * *

(2) The daily operating (production) rate must be determined as specified in § 420.3.

* * * * *

53. On page 82082, in column 2, correct § 420.71 by removing paragraph (a)(3).

§ 420.75 [Amended]

54. On page 82083, correct the table title in § 420.75(a) to read: “PERFORMANCE STANDARDS (NSPS)”.

55. On page 82083, correct the table title in § 420.75(b) to read: “PERFORMANCE STANDARDS (NSPS)”.

Dated: January 19, 2001.
J. Charles Fox,
Assistant Administrator for Water.

[FR Doc. 01-3730 Filed 2-13-01; 8:45 am]

BILLING CODE 6560-50-P